DEPARTMENT OF HOMELAND SECURITY

Coast Guard

46 CFR Part 189

Frequency of Inspection

CFR Correction

In Title 46 of the Code of Federal Regulations, Parts 166 to 199, revised as of October 1, 2002, in part 189, on page 348, remove the second § 189.25-5.

[FR Doc. 03-55517 Filed 8-1-03; 8:45 am]

BILLING CODE 1505-01-D